NATIONAL ARCHIVES AND RECORDS ADMINISTRATION

[NARA-2017-029]

Agency Information Collection Activities: Proposed Collection; Comment Request

AGENCY: National Archives and Records Administration (NARA).

ACTION: Notice of proposed extension request.

SUMMARY: NARA proposes to request an extension from the Office of Management and Budget (OMB) of approval to use the information collection described in this notice, which is the application organizations submit to a Presidential library to request use of space in the library for a privately sponsored activity. We invite you to comment on this proposed information collection.

DATES: We must receive written comments on or before April 28, 2017.

ADDRESSES: Send comments to Paperwork Reduction Act Comments (ID), Room 4400; National Archives and Records Administration; 8601 Adelphi Road; College Park, MD 20740-6001, fax them to 301-713-7409, or email them to tamee.fechhelm@nara.gov.

FOR FURTHER INFORMATION CONTACT: Contact Tamee Fechhelm by telephone at 301-837-1694 or fax at 301-713-7409 with requests for additional information or copies of the proposed information collection and supporting statement.

SUPPLEMENTARY INFORMATION: Pursuant to the Paperwork Reduction Act of 1995 (Pub. L. 104-13), NARA invites the public and other Federal agencies to comment on proposed information collections.

You should address one or more of the following points in any comments or suggestions you submit: (a) Whether the proposed information collection is necessary for NARA to properly perform its functions; (b) NARA's estimate of the burden of the proposed information collection and its accuracy; (c) ways NARA could enhance the quality, utility, and clarity of the information it collects; (d) ways NARA could minimize the burden on respondents of collecting the information, including through information technology; and (e) whether this collection affects small businesses. We will summarize any comments you submit and include the summary in our request for OMB approval. All comments will become a matter of public record.

In this notice, NARA solicits comments concerning the following information collection:

Title: Application and permit for use of space in Presidential library and grounds.

OMB number: 3095-0024.

Agency form number: NA Form 16011.

Type of review: Regular.

Affected public: Private organizations.

Estimated number of respondents: 1,000.

Estimated time per response: 20 minutes.

Frequency of response: On occasion.

Estimated total annual burden hours: 333 hours.

Abstract: Regulations at 36 CFR 1280.94 require this information collection. The application is submitted to a Presidential library to request the use of space in the library for a privately sponsored activity. NARA uses the information to determine whether use will meet the criteria in 36 CFR 1280.94 and to schedule the date.

Swarnali Haldar,
Executive for Information Services/CIO.

[FR Doc. 2017-03725 Filed 2-24-17; 8:45 am]

BILLING CODE 7515-01-P